DEPARTMENT OF TRANSPORTATION

Federal Aviation Administration

[Summary Notice No. PE-2002-16]

Petitions for Exemption

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of petitions previously received. The purpose of this notice is to improve the public's awareness of, and participation in, this aspect of FAA's regulatory activities. Neither publication of this notice nor the inclusion or omission of information in the summary is intended to affect the legal status of any petition or its final disposition.

FOR FURTHER INFORMATION CONTACT: Denise Emrick (202) 267-5174, Office of Rulemaking (ARM-1), Federal Aviation Administration, 800 Independence Avenue, SW., Washington, DC 20591.

This notice is published pursuant to 14 CFR 11.85 and 11.91.

Issued in Washington, DC, on March 14, 2002.
Donald P. Byrne,
Assistant Chief Counsel for Regulation.

Disposition of Petitions

Docket No.: FAA-2002-11494.

Petitioner: Segrave Aviation, Inc.

Section of 14 CFR Affected: 14 CFR § 135.143(c)(2).

Description of Relief Sought/Disposition: To permit Segrave to operate certain aircraft under part 135 without a TSO-C112 (Mode S) transponder installed in the aircraft. Grant, 02/14/2002, Exemption No. 7723.

Docket No.: FAA-2002-11493

Petitioner: Central Copters, Inc.

Section of 14 CFR Affected: 14 CFR § 135.143(c)(2).

Description of Relief Sought/Disposition: To permit Central Copters to operate certain aircraft under part 135 without a TSO-C112 (Mode S) transponder installed on the aircraft. Grant, 02/14/2002, Exemption No. 7724.

Docket No.: FAA-2002-11497

Petitioner: Eagle Aviation Academy.

Section of 14 CFR Affected: 14 CFR § 135.143(c)(2).

Description of Relief Sought/Disposition: To permit Eagle Aviation Academy to operate certain aircraft under part 135 without a TSO-C112 (Mode S) transponder installed on the aircraft. Grant, 02/14/2002, Exemption No. 7725.

Docket No.: FAA-2002-11553.

Petitioner: Air One Express, Inc.

Section of 14 CFR Affected: 14 CFR § 135.143(c)(2).

Description of Relief Sought/Disposition: To permit Air One to operate certain aircraft under part 135 without a TSO-C112 (Mode S) transponder installed on the aircraft. Grant, 02/14/2002, Exemption No. 7726.

Docket No.: FAA-2002-11560.

Petitioner: Global Air Charter, Inc.

Section of 14 CFR Affected: 14 CFR § 135.143(c)(2).

Description of Relief Sought/Disposition: To permit Global Air Charter to operate certain aircraft under part 135 without a TSO-C-112 (Mode S) transponder installed on the aircraft. Grant, 02/14/2002, Exemption No. 7722.

Docket No.: FAA-2002-11499.

Petitioner: Mr. Randy L. Bailey.

Section of 14 CFR Affected: 14 CFR § 91.109 (a) and (b)(3).

Description of Relief Sought/Disposition: To permit Mr. Bailey to conduct certain flight instruction and simulated instrument flights to meet the recent experience requirements in Beechcraft Bonanza, Baron, and Travel Air airplanes equipped with a functioning throwover control wheel in place of functioning dual controls. Grant, 02/25/2002, Exemption No. 7734.

Docket No.: FAA-2002-11591.

Petitioner: Aircraft Owners and Pilots Association.

Section of 14 CFR Affected: 14 CFR §§ 135.251, 135.255, and 135.353, and appendixes I and J to part 121.

Description of Relief Sought/Disposition: To permit Aircraft Owners and Pilots Association member pilots to conduct local sightseeing flights at charity or community events, for compensation or hire, without complying with certain anti-drug and alcohol misuse prevention program requirements of part 135. Grant, 02/28/2002, Exemption No. 7112B (Previously Docket No. 29648).

Docket No.: FAA-2001-11090.

Petitioner: Army Aviation Heritage Foundation.

Section of 14 CFR Affected: 14 CFR §§ 91.319, 119.5(g), and 119.25(b).

Description of Relief Sought/Disposition: To permit the Army Aviation Heritage Foundation to operate its former military UH-1H helicopter that holds an experimental airworthiness certificate for the purpose of carrying passengers on local educational flights. Grant, 03/04/2002, Exemption No. 7736.

Docket No.: FAA-2002-11355.

Petitioner: Embry Riddle Aeronautical University.

Section of 14 CFR Affected: 14 CFR § 61.71(a).

Description of Relief Sought/Disposition: To permit the commercial pilot certification practical tests that two Embry Riddle students successfully completed to be valid although the completion dates of the exams exceeded the required 60-day period from their graduation date due to the flight restrictions put in place after the events that took place on September 11, 2001. Grant, 02/27/2002, Exemption No. 7733.

Docket No.: FAA-2002-11608.

Petitioner: Palmyra Flying Club, Inc.

Section of 14 CFR Affected: 14 CFR §§ 135.251, 135.251, 135.255, and 135.353, and appendixes I and J to part 121.

Description of Relief Sought/Disposition: To permit Palmyra to conduct local sightseeing flights at Palmyra Airport for the fly-in breakfast on June 16, 2002, for compensation or hire, without complying with certain anti-drug and alcohol misuse prevention requirements of part 135. Grant, 02/28/2002, Exemption No. 7730.

Docket No.: FAA-2002-11504.

Petitioner: DeKalb Peachtree Airport.

Section of 14 CFR Affected: 14 CFR §§ 135.251, 135.255, and 135.353, and appendixes I and J to part 121.

Description of Relief Sought/Disposition: To permit DeKalb Peachtree Airport to conduct local sightseeing flights for its Good Neighbor Day Open House/Airshow on June 1, 2002, and June 7, 2003, for compensation or hire, without complying with certain anti-drug and alcohol misuse presentation requirements of part 135. Grant, 02/28/2002, Exemption No. 7731.

[FR Doc. 02-6649 Filed 3-19-02; 8:45 am]

BILLING CODE 4910-13-M